DEPARTMENT OF ENERGY

Federal Energy Regulatory Commission

[Docket No. EC05-67-000, et al.]

American Transmission Company LLC, et al.; Electric Rate and Corporate Filings

April 22, 2005.

The following filings have been made with the Commission. The filings are listed in ascending order within each docket classification.

1. American Transmission Company LLC, ATC Management, Inc., Wisconsin Public Service Corporation, WPS Investments, LLC

[Docket No. EC05-67-000]

Take notice that on April 13, 2005, American Transmission Company LLC (ATC), ATC Management, Inc. (ATCM), Wisconsin Public Service Corporation (WPSC), and WPS Investments, LLC (WPSI) (collectively, Applicants), submitted an application pursuant to section 203 of the Federal Power Act for authorization for the acquisition of certain securities in connection with construction work that WPSC has performed for ATC on two substations owned by ATC. Applicants state that as consideration for this construction work, WPSC would acquire shares of Class A Non-Voting stock in ATCM, and WPSC(s affiliate, WPSI, would acquire membership interests in ATC. The applicants further state that they have also filed for the requisite approval of the Public Service Commission of Wisconsin in connection with this securities issuance.

Comment Date: 5 p.m. eastern time on May 4, 2005.

2. Neptune Regional Transmission System, LLC, Atlantic Energy Partners LLC, NewCo LLC, EIF Neptune, LLC, Starwood Energy Investors, L.L.C.

[Docket No. EC05-70-000]

Take notice that on April 18, 2005, Neptune Regional Transmission System, LLC (Neptune) on behalf of Atlantic Energy Partners LLC (AEP), NewCo LLC (NewCo), EIF Neptune, LLC (EIF) and Starwood Energy Investors L.L.C. (Starwood) (collectively with Neptune, the Applicants) tendered for filing an application requesting all necessary authorizations under section 203 of the Federal Power Act, for a transfer of jurisdictional facilities to facilitate financing and investment arrangements and for a Commission determination that AEP, EIF and Starwood are not public utilities under the Federal Power Act.

Comment Date: 5 p.m. eastern time on May 9, 2005.

3. Oleander Power Project, Limited Partnership, and Southern Power Company

[Docket No. EC05-71-000]

Take notice that, on April 20, 2005, Oleander Power Project, Limited Partnership, (Oleaner Power) and Southern Power Company (Southern Power) jointly submitted an Application pursuant to section 203 of the Federal Power Act requesting that the Commission grant all authorizations necessary to permit the sale of certain partnership interests in Oleander Power to newly-formed special purpose subsidiaries of Southern Power Company. The Applicants request privileged treatment, pursuant to 18 CFR 388.112 for Exhibit I to their Application.

Comment Date: 5 p.m. eastern time on May 11, 2005.

4. Boston Edison Company

[Docket No. EL02-123-007]

Take notice that, on April 19, 2005, Boston Edison Company (BECo) submitted its compliance filing to the March 8, 2005 Commission orders in Docket Nos. EL02-123-005 and EL02-123-006, and pursuant to Commission's April 14, 2005 Notice of Extension of Time and BECo's April 18, 2005 Request for Extension of Time.

BECo states that copies of the filing were served upon the official service list in the above-captioned proceeding and the affected customers.

Comment Date: 5 p.m. eastern time on May 10, 2005.

5. Southern Indiana Gas and Electric Company v. Midwest Independent Transmission System Operator, Inc.

[Docket No. EL05-34-001]

Take notice that on April 11, 2005, the Midwest Independent Transmission System Operator, Inc. (Midwest ISO) submitted, pursuant to section 205 of the Federal Power Act, revisions to the Midwest ISO's Open Access Transmission and Energy Markets Tariff and other information in compliance with the Commission's February 10, 2005, order in this proceeding, Southern Indiana Gas and Electric Company v. Midwest Independent Transmission System Operator, Inc., 110 FERC ¶ 61,109 (2005). The Midwest ISO has requested a May 6, 2005, effective date for all tariff sheets submitted as part of this filing.

The Midwest ISO has requested waiver of the service requirements set forth in 18 CFR 385.2010. The Midwest ISO states it has electronically served a copy of this filing, with attachments, upon all Midwest ISO Members, Member representatives of Transmission Owners and Non-Transmission Owners, the Midwest ISO Advisory Committee participants, as well as all State commissions within the region. In addition, Midwest states that the filing has been electronically posted on the Midwest ISO's Web site at http://www.midwestiso.org under the heading “Filings to FERC” for other interested parties in this matter. The Midwest ISO will provide hard copies to any interested parties upon request.

Comment Date: 5 p.m. eastern time on April 28, 2005.

6. PJM Interconnection, L.L.C.

[Docket No. EL05-70-002]

Take notice that on April 8, 2005, PJM Interconnection, L.L.C. has provided the following designation to American Electric Power Service Corporation for use in connection with the Service Agreement No. 1263.

Comment Date: 5 p.m. eastern time on May 9, 2005.

7. Colton Power L.P.

[ER01-2644-007]

Take notice that on April 19, 2005, Colton Power L.P. (Colton Power) tendered for filing pursuant to a letter order issued by the Commission on March 23, 2005 in Docket No. ER01-2644-006, an amended market-based rate tariff to: (1) Clarify that Colton Power must first receive Commission authorization prior to making any sales to affiliates with a franchised service territory; and (2) implement the reporting requirements established in Order No. 652. See Reporting Requirement for Change in Status for Public Utilities With Market-Based Rate Authority, Order No. 652, 70 Fed. Reg. 8,253 (Feb. 18, 2005).

Comment Date: 5 p.m. eastern time on May 10, 2005.

8. Duke Energy Arlington Valley, LLC

[Docket No. ER02-443-005]

Take notice that, on April 19, 2005, Duke Energy Arlington Valley, LLC (Duke Arlington Valley) submitted for filing revisions to its market-based rate tariff, designated as FERC Electric Tariff, Original Volume No. 1, to include the change in status reporting requirements adopted in Reporting Requirement for Changes in Status for Public Utilities With Market-Based Rate Authority, Order No. 652, 110 FERC ¶ 61,097 (2005).

Duke Arlington Valley states that copies of the filing were served upon the parties on the official service list in the above-captioned proceeding.

Comment Date: 5 p.m. eastern time on May 10, 2005.

9. Pacific Gas and Electric Company

[Docket No. ER04-415-006]

Take notice that on February 15, 2005, Pacific Gas and Electric Company, (PG&E) submitted for filing an electric refund report in compliance with the Commission's order issued November 30, 2004 in Docket Nos. ER04-415-000, 001 and 002.

Comment Date: 5 p.m. eastern time on May 2, 2005.

10. San Diego Gas & Electric Company

[Docket No. ER05-839-000]

Take notice that on April 19, 2005, San Diego Gas & Electric Company (SDG&E) tendered for filing its revision to SDG&E's TO tariff, FERC Electric Tariff, Second Revised Volume No. 11, to provide for the inclusion of costs resulting from SDG&E's procurement procedure that was implemented in response to the California Public Utilities Commission Decision 04-07-028 in SDG&E's reliability services rates. SDG&E requests an effective date of June 18, 2005 to the tariff changes proposed herein.

SDG&E states that copies of the filing have been served on the California Public Utilities Commission, the California Electricity Oversight Board, the California Independent System Operator Corporation, Pacific Gas and Electric Company, and Southern California Edison Company.

Comment Date: 5 p.m. eastern time on May 10, 2005.

11. San Diego Gas & Electric Company

[Docket No. ER05-840-000]

Take notice that on April 19, 2005, San Diego Gas & Electric Company (SDG&E) tendered for filing its Service Agreement No. 22 to its FERC Electric Tariff, Second Revised Volume No. 11. SDG&E states that this agreement provides for SDG&E to operate and maintain certain interconnection facilities required for a 47.955 MW generation project being constructed and owned by RAMCO Generation One in San Diego County. SDG&E requests an effective date of April 22, 2005.

SDG&E states that copies of the filing have been served on RAMCO Generation One, on the California Independent System Operator Corporation and on the California Public Utilities Commission.

Comment Date: 5 p.m. eastern time on May 10, 2005.

12. Praxair Plainfield, Inc.

[Docket No. ER05-841-000]

Take notice that on April 19, 2005, Praxair Plainfield, Inc. (Plainfield) filed an application to amend its market-based rate tariff and seek waiver of certain regulations, and blanket approvals.

Comment Date: 5 p.m. eastern time on May 10, 2005.

13. Cleco Power, LLC

[Docket No. ER05-842-000]

Take notice that on April 19, 2005, Cleco Power LLC (Cleco Power) filed a proposed new Attachment L to its Open Access Transmission Tariff (OATT) to incorporate by reference the North American Electric Reliability Council's transmission loading relief procedures, and any amendments on file and accepted by the Commission, as a part of Cleco's OATT. Cleco Power states that it designates the filing as FERC Electric Tariff, Second Revised Volume No. 1, Second Revised Sheet No. 7 and Original Sheet No. 283. Cleco Power requests and effective date of April 20, 2005.

Comment Date: 5 p.m. eastern time on May 10, 2005.

14. Westar Energy, Inc.

[Docket No. ER05-843-000]

Take notice that on April 19, 2005, Westar Energy, Inc. (Westar) submitted for filing a notice of cancellation for first revised rate schedule FERC No. 227, an Electric Power Supply agreement between Westar and the City of Axtell, Kansas.

Comment Date: 5 p.m. eastern time on May 10, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2055 Filed 4-28-05; 8:45 am]

BILLING CODE 6717-01-P